DEPARTMENT OF COMMERCE

National Oceanic and Atmospheric Administration

50 CFR Part 648

[Docket No. 021122284-2323-02; I.D. 021403E]

Fisheries of the Northeastern United States; Summer Flounder, Scup, and Black Sea Bass Fisheries; Adjustments to the 2003 Commercial Quotas

AGENCY: National Marine Fisheries Service (NMFS), National Oceanic and Atmospheric Administration (NOAA), Commerce.

ACTION: Commercial quota restoration.

SUMMARY: NMFS publishes revised 2003 commercial quotas for summer flounder, scup, and black sea bass. This action is necessary to comply with the regulatory provision that requires the Administrator, Northeast Region, NMFS (Regional Administrator) to correct erroneous landings data that factored into an overage deduction. The intent of this action is to provide fishermen the opportunity to harvest the available quota for these fisheries.

DATES: Effective February 25, 2003, through December 31, 2003.

FOR FURTHER INFORMATION CONTACT: Sarah McLaughlin, Fishery Policy Analyst, (978) 281-9279, fax (978) 281-9135, e-mail sarah.mclaughlin@noaa.gov.

SUPPLEMENTARY INFORMATION:

Background

NMFS published final specifications and preliminary quota adjustments for the 2003 summer flounder, scup, and black sea bass fisheries on January 2, 2003 (68 FR 60). The final rule included preliminary 2002 landings and 2003 quota adjustments. Sections 648.100(d), 648.120(d), and 648.140(d) provide that, if the Regional Administrator determines during the fishing year that any part of an overage deduction was based on erroneous landings data that were in excess of actual landings for the period concerned, the Regional Administrator will restore the overage that was deducted in error to the appropriate quota allocation and publish notification in the Federal Register announcing the restoration.

During a retrospective review of the 2002 research set-aside (RSA) program and data accounting procedures, NMFS discovered a discrepancy in how RSA landings were attributed and subsequently used for quota monitoring; i.e., the RSA landings were counted as commercial landings in the summer flounder, scup, and black sea bass fisheries. Because RSA landings are authorized under a separate quota for each of these three fisheries, they are intended to be accounted for separately from other landings. As a result, actual commercial landings for certain 2002 quota periods were lower than previously reported, and quota overages calculated for 2002 incorrectly included RSA landings, which resulted in lower adjusted 2003 quotas than are necessary.

During a separate retrospective review of the landings data used to determine overharvest or underharvest of summer flounder in 2002, NMFS determined that, for some states, a portion of the landings considered to be late reports for 2001 landings were misattributed and counted as 2002 landings. In addition, some trip-level data that had already been included in monthly landings data reports were reported by the State of Connecticut. The result of these three findings made during the data review process is that the landings recorded for certain states or quota periods exceeded the actual landings. Therefore, NMFS hereby restores these inappropriately deducted landings to the appropriate state and period quotas for the 2003 fisheries.

Summer Flounder Quota Corrections

A total of 317 lb (144 kg) of summer flounder RSA landings were counted erroneously as commercial landings, as follows: Connecticut—19 lb (9 kg); Rhode Island—98 lb (44 kg); and New York—200 lb (91 kg). This amount is a negligible fraction of reported 2002 landings and did not result in closure of any state's fishery. However, for these states, corrections have been made to the 2002 landings and the 2003 quotas are revised as appropriate.

In addition, the following states recorded 2002 landings of summer flounder less than those reported in the January 2, 2003, final rule, by the following amounts: New Hampshire—22 lb (10 kg); Rhode Island—337,187 lb (152,947 kg); Connecticut—42,056 lb (19,076 kg); New York—10,918 lb (4,952 kg); New Jersey—198,749 lb (90,152 kg); Maryland—15,385 lb (6,979 kg); Virginia—820,494 lb (372,174 kg); and North Carolina—846,527 (383,982 kg). Revisions to these landings have been made and revisions of 2002 overages (through October 31, 2002) are necessary for Rhode Island, Connecticut, and Virginia. The result is that the initial quotas (less the amount set aside for 2003 research) are restored for Connecticut, Rhode Island, and Virginia, as there was no 2002 overage in those states.

The commercial summer flounder 2003 adjusted quotas, less the amount set aside for 2003 research (as published in the January 2, 2003, final rule), the amounts being restored to the 2003 adjusted quotas, and the revised 2003 quotas (less the amount set aside for 2003 research), by state, are presented in Table 1.

TABLE 1. REVISED 2003 STATE-BY-STATE COMMERCIAL SUMMER FLOUNDER QUOTA ALLOCATIONS
State | 2003 Adjusted Quota, less the 2003 Research Set-Aside (as published January 2, 2003): lb² | 2003 Adjusted Quota, less the 2003 Research Set-Aside (as published January 2, 2003): kg²,³ | Amount Restored to the 2003 Adjusted Quota1: lb | Amount Restored to the 2003 Adjusted Quota1: kg³ | Revised 2003 Quota, less the 2003 Research Set-Aside: lb² | Revised 2003 Quota, less the 2003 Research Set-Aside: kg²,³
ME | (6,890) | (3,125) | 0 | 0 | (6,890) | (3,125)
NH | 64 | 29 | 0 | 0 | 64 | 29
MA | 907,274 | 411,537 | 0 | 0 | 907,274 | 411,537
RI | 1,979,786 | 898,025 | 204,121 | 92,589 | 2,183,907 | 990,614
CT | 301,123 | 136,588 | 13,183 | 5,980 | 314,306 | 142,568
NY | 1,064,869 | 483,021 | 0 | 0 | 1,064,869 | 483,021
NJ | 2,329,010 | 1,056,432 | 0 | 0 | 2,329,010 | 1,056,432
DE | (45,609) | (20,688) | 0 | 0 | (45,609) | (20,688)
MD | 283,951 | 128,799 | 0 | 0 | 283,951 | 128,799
VA | 2,892,405 | 1,311,986 | 76,024 | 34,484 | 2,968,429 | 1,346,471
NC | 3,821,924 | 1,733,613 | 0 | 0 | 3,821,924 | 1,733,613
Total⁴ | 13,580,406 | 6,160,032 | 293,328 | 133,053 | 13,873,734 | 6,293,084
¹ Amount restored was calculated to correct for 2002 RSA landings counted as commercial landings, misattributed portion of late 2001 landings, and specifically for Connecticut, trip level data already summarized in monthly landings data reports.
² Parentheses indicate a negative number. A state with a negative quota has an allocation of zero (0). Maine and Delaware continue repayment of overharvest from 2001.
³ Kilograms are as converted from pounds and may not necessarily add due to rounding.
⁴ Total quota is the sum of all states having allocation:, i.e., states other than Maine and Delaware.

Scup Quota Corrections

No RSA landings of scup were made during the Winter I period of 2002. A total of 87,188 lb (39,548 kg) of scup landed under the RSA program during the Summer period of 2002 were counted erroneously as commercial landings. The 2002 Summer period overage reported in the January 2, 2003, final rule was 402,754 lb (182,688 kg), and the 2003 Summer period quota was adjusted to 4,434,691 lb (2,011,563 kg) as a result of that overage. Properly accounting for the RSA landings, the overage should be corrected to 315,566 lb (143,140 kg), resulting in a revised 2003 summer period quota of 4,521,879 lb (2,051,111 kg; a 1.9-percent increase). Per the quota counting procedures, any adjustment to the 2002 Winter II period quota will be made, if necessary, following review of the landings from November 1 through December 31, 2002, to be conducted as soon as possible after June 30, 2003.

The commercial scup 2003 adjusted quotas, less the amount set aside for 2003 research (as published in the January 2, 2003, final rule), the amounts being restored to the 2003 adjusted quotas, and the revised 2003 quotas (less the amount set aside for 2003 research), by period, are presented in Table 2.

TABLE 2. REVISED 2003 COMMERCIAL SCUP QUOTA ALLOCATIONS BY PERIOD
Quota Period | 2003 Adjusted Quota, less the 2003 Research Set-Aside (as published January 2, 2003): lb | 2003 Adjusted Quota, less the 2003 Research Set-Aside (as published January 2, 2003): kg² | Amount Restored to the 2003 Adjusted Quota1: lb | Amount Restored to the 2003 Adjusted Quota1: kg² | Revised 2003 Quota, less the 2003 Research Set-Aside: lb | Revised 2003 Quota, less the 2003 Research Set-Aside: kg²
Winter I | 5,602,495 | 2,541,275 | 0 | 0 | 5,602,495 | 2,541,275
Summer | 4,434,691 | 2,011,563 | 87,188 | 39,548 | 4,521,879 | 2,051,111
Winter II | 1,979,689 | 897,981 | n/a³ | n/a³ | 1,979,689 | 897,981
Total | 12,016,875 | 5,450,819 | 87,188 | 39,548 | 12,104,063 | 5,490,367
¹ Amount restored was calculated to correct for 2002 RSA landings counted as commercial landings.
² Kilograms are as converted from pounds and may not necessarily add due to rounding.
³ Not applicable.

Black Sea Bass Quota Corrections

No RSA landings of black sea bass were made during Quarter 1 of 2002. RSA landings during Quarters 2 and 3 were 4,802 lb (2,178 kg) and 26,360 lb (11,957 kg), respectively, and were counted erroneously as commercial black sea bass landings. Consistent with the quota counting procedures, in the January 2, 2003, final rule, the 2002 Quarter 2 overage reported was 214,338 lb (97,223 kg), the 2003 Quarter 2 quota was adjusted to 750,902 lb (340,607 kg), the 2002 Quarter 3 overage reported was 5,459 lb (2,476 kg), and the 2003 Quarter 2 quota was adjusted to 401,288 lb (182,023 kg). Properly accounting for the RSA landings, the 2002 Quarter 2 overage should be corrected to 209,536 lb (95,045 kg), resulting in a revised Quarter 2 quota of 755,704 lb (342,785 kg; a 0.6-percent increase). Accounting for the RSA landings results in there being no overage of the 2002 Quarter 3 quota, so the 2003 Quarter 3 quota is restored to 406,747 lb (184,499 kg; a 1.4-percent increase). Only Quarters 1 though 3 are included in the calculations of adjusted quotas for the following year.

Under the current quarterly black sea bass quota program, any adjustment to the Quarter 4 quota would be made, if necessary, following review of the 2002 Quarter 4 landings, to be conducted as soon as possible after June 30, 2003. However, Amendment 13 to the Summer Flounder, Scup, and Black Sea Bass FMP, which was approved by NMFS on January 29, 2003, establishes an annual (calendar year) coastwide quota for the commercial black sea bass fishery, and NMFS anticipates that the final rule implementing the Amendment will be effective prior to the end of Quarter 1 for 2003. The annual quota would fully account for the total 2002 quota, all reported 2002 commercial landings, and all reported 2002 RSA landings. Commercial landings made in 2003 to date will be measured against the annual quota, rather than the quarterly quotas, and adjustments would be made, as necessary, at year-end to the annual quota.

The commercial black sea bass 2003 adjusted quotas, less the amount set aside for 2003 research (as published in the January 2, 2003, final rule), the amounts being restored to the 2003 adjusted quotas, and the revised 2003 quotas (less the amount set aside for 2003 research), by quarter, are presented in Table 3.

TABLE 3. REVISED 2003 COMMERCIAL BLACK SEA BASS QUOTA ALLOCATIONS BY QUARTER
Quarter | 2003 Adjusted Quota, less the 2003 Research Set-Aside (as published January 2, 2003): lb | 2003 Adjusted Quota, less the 2003 Research Set-Aside (as published January 2, 2003): kg² | Amount Restored to the 2003 Adjusted Quota1: lb | Amount Restored to the 2003 Adjusted Quota1: kg² | Revised 2003 Quota, less the 2003 Research Set-Aside: lb | Revised 2003 Quota, less the 2003 Research Set-Aside: kg²
1 | 1,197,664 | 543,257 | 0 | 0 | 1,197,664 | 543,257
2 | 750,902 | 340,607 | 4,802 | 2,178 | 755,704 | 342,785
3 | 401,288 | 182,023 | 5,459 | 2,476 | 406,747 | 184,499
4 | 652,180 | 295,827 | n/a³ | n/a³ | 652,180 | 295,827
Total | 3,002,034 | 1,361,714 |  |  | 3,012,295 | 1,366,368
¹ Amount restored was calculated to correct for 2002 RSA landings counted as commercial landings.
² Kilograms are as converted from pounds and may not necessarily add due to rounding.
³ Not applicable.

Classification

This action is required by 50 CFR part 648 and is exempt from review under E.O. 12866.

Authority: Authority: 16 U.S.C. 1801 et seq.

Dated: February 24, 2003.
Bruce C. Morehead,
Acting Director, Office of Sustainable Fisheries, National Marine Fisheries Service.

[FR Doc. 03-4816 Filed 2-25-03; 3:58 pm]

BILLING CODE 3510-22-S